DEPARTMENT OF ENERGY

Federal Energy Regulatory Commission

[Docket Nos. EL01-45-002, EL01-45-005, ER01-1385-003, and ER01-1385-006]

Consolidated Edison Company of New York, Inc.; Notice of Filing

August 17, 2001.

Take notice that on August 14, 2001, the New York Independent System Operator, Inc. (NYISO) filed a revised timetable for implementation of the revised Localized Market Power Mitigation Measures proposed by Consolidated Edison Company of New York, Inc., and approved by the Commission's order issued on July 20, 2001 in the above-captioned dockets.

The NYISO has served a copy of this filing upon parties on the official service lists maintained by the Commission for the above-captioned dockets.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before August 30, 2001. This date supercedes the August 20 date given in the Commission's previous notice in this docket. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

David P. Boergers,
Secretary.

[FR Doc. 01-21377 Filed 8-23-01; 8:45 am]

BILLING CODE 6717-01-P